DEPARTMENT OF DEFENSE

Department of the Army

Notice of Availability of the Draft Programmatic Environmental Impact Statement (DPEIS) for Army Growth and Force Structure Realignment

AGENCY: Department of the Army, DoD.

ACTION: Notice of Availability (NOA).

SUMMARY: The Department of the Army announces the availability of a DPEIS for the growth and realignment of the U.S. Army. Pursuant to the National Environmental Policy Act (NEPA), the Department of the Army has prepared a DPEIS that evaluates the potential environmental and socioeconomic effects associated with alternatives for growing and realigning the Army's force structure. Potential impacts have been analyzed at installations which are being considered for the stationing of 1,000 or more Soldiers in efforts to grow and realign the Army.

DATES: Written comments on the DPEIS will be accepted for 45 days following the publication of a Notice of Availability in the Federal Register by the U.S. Environmental Protection Agency.

ADDRESSES: Send all written comments and suggestions concerning this DPEIS to: Public Affairs Office, U.S. Army Environmental Command, Building E4460, Attention: IMAE-PA, 5179 Hoadley Road, Aberdeen Proving Ground, MD 21010-5401. Comments may also be sent to: PublicComments@aec.apgea.army.mil.

FOR FURTHER INFORMATION CONTACT: Public Affairs Office at (410) 436-2556; facsimile at (410) 436-1693 (during normal business hours Monday through Friday).

SUPPLEMENTARY INFORMATION: The Proposed Action and analysis within the DPEIS covers those activities needed to increase the Army's end strength and realign its force structure from Fiscal Year 2008 through Fiscal Year 2013 to a size and composition that is better able to meet national security and defense requirements. The Proposed Action involves stationing decisions to align Army forces in support of military transformation, unit equipment and training readiness, and Soldier and Family quality of life needs. To implement the Proposed Action, new units must be stationed at locations that are able to accommodate unit training, garrison operations, maintenance activities, and Soldiers and their Families. In addition, final stationing locations must support the strategic deployment and mobilization requirements of the nation's Combatant Commanders to ensure they will have the forces necessary to support regional contingency operations and planning requirements.

The current global security environment is turbulent, unpredictable, and rapidly changing. It has placed considerable demands on the nation's military, and highlighted the need for the Army to correct shortfalls in high-demand skills while conducting a thorough assessment of its force capabilities. No one has felt the impacts from the increased demands of the modern security environment more than the Soldiers and Families of the U.S. Armed Forces. To meet the challenges posed by a wider range of security threats present in the 21st century, the Army requires the growth and restructuring of its forces in order to sustain the broad range of operations needed to ensure national and global stability.

The DPEIS is being prepared to comply with NEPA (42 U.S.C. and et seq.) and meet Army NEPA procedures, which are outlined in Environmental Analysis of Army Actions (32 CFR Part 651). These regulations require the Army to consider the environmental and socioeconomic impacts of its proposed action and alternatives and to solicit the views of the public, so it can make an informed final decision regarding how to proceed.

The DPEIS examines major Army training installations and their ability to support new unit stationing actions in connection with the growth and realignment of the U.S. Army. The DPEIS will provide the Army senior leadership with a hard look at environmental and socioeconomic impacts associated with the Proposed Action and inform the decision-making process for selecting the final stationing locations for new units. This effort includes analysis of specific actions that will need to be taken (such as the construction of housing and quality of life facilities, the construction of new training ranges and infrastructure, and changes in the intensity of use of maneuver land and firing ranges) to station new units as part of the Army's overall efforts to grow and realign the force.

After reviewing a full range of alternatives sites, 17 installations capable of supporting the Army's growth and realignment have been evaluated for their ability to support three action alternatives. The installations carried forward for analysis include: Fort Benning, GA; Fort Bragg, NC; Fort Bliss, TX; Fort Campbell, KY; Fort Carson, CO; Fort Drum, NY; Fort Hood, TX; Fort Hunter-Liggett, CA; Fort Irwin, CA; Fort Knox, KY; Fort Lewis, WA; Fort Polk, LA; Fort Riley, KS; Fort Stewart, GA; White Sands Missile Range, NM; Yakima Training Center, WA; and Yuma Proving Grounds, AZ. Each of these installations could receive 1,000 or more additional Soldiers as part of alternatives being examined.

Alternatives carried forward for analysis in the DPEIS include; (1) Implementing Army force structure modifications between Fiscal Years 2008 and 2013 to support the Army's Modular transformation and Global Defense Posture Review (GDPR) decisions; (2) Executing those actions discussed as part of Alternative 1 and, in addition, adding approximately 30,000 Combat Support (CS) and Combat Service Support (CSS) Soldiers to the Army to address critical shortfalls in high demand military skills in both Active Army and Reserve components; (3) Executing those actions proposed in Alternatives 1 and 2 and, in addition, grow the Army by up to 6 Active Duty Brigade Combat Teams (BCTs). Additional BCTs would be stationed at existing or newly established Army stationing locations within the continental United States. In addition to these alternatives, the No Action Alternative is described and its impacts are fully assessed and considered.

Analysis within the DPEIS covers those activities required to implement unit stationing actions associated with Army growth and realignment. Site-specific actions which will need to be taken include the construction of housing and quality of life facilities (i.e., gymnasiums, hospitals, shopping areas), the construction of new training ranges and infrastructure, and changes in the intensity of use of maneuver land and firing ranges associated with the increased frequency of training events. Stationing decisions made as part of this effort will also consider strategic military and national security considerations, New stationing actions must take place at locations which, if selected, are capable of supporting the National Security Strategy (2006), the Quadrennial Defense Review (QDR, 2006), National Military Strategy, and the Army Campaign Plan (ACP).

Direct, indirect, and cumulative impacts of the Proposed Action have been considered in the DPEIS. The DPEIS identifies the environmental and socioeconomic impacts associated with various unit stationing actions at each of the 17 installations carried forward for analysis. Impacts at sites would result from construction and training activities related to the growth and realignment of Army forces. Significant impacts to resources could be direct and long term. Decisions from the PEIS will be tiered into site-specific NEPA analysis at the installation level as specific stationing decisions are determined. The DPEIS will provide Army planners and decision makers with critical and timely information on the capacity and condition of each of the installation's environmental and socioeconomic resources preceding specific stationing actions. The No Action Alternative provides the baseline conditions for comparison to proposed alternatives. Additional concerns or impacts may be identified as a result of comments received on the DPEIS.

The Army invites full public participation to promote open communication and better decision making. All persons and organizations that have an interest in the growth and realignment of the Army's forces and associated stationing actions are invited to participate in this NEPA evaluation process. Assistance will be provided upon request to anyone having difficulty understanding how to participate.

The availability of the PDEIS for public comment will also be announced through notices and national and local media news releases. Information on the DPEIS will be posted on the U.S. Army Environmental Command's Web site (www.aec.army.mil) for public access during the public comment period.

Dated: August 15, 2007.
Addison D. Davis, IV,
Deputy Assistant Secretary of the Army (Environment, Safety and Occupational Health).

[FR Doc. 07-4149 Filed 8-23-07; 8:45 am]

BILLING CODE 3710-08-M